DEPARTMENT OF TRANSPORTATION

Coast Guard

[USCG-2000-7934]

National Boating Safety Advisory Council

AGENCY: Coast Guard, DOT.

ACTION: Notice of meetings.

SUMMARY: The National Boating Safety Advisory Council (NBSAC) and its subcommittees on boat occupant protection, navigation lights, and prevention through people will meet to discuss various issues relating to recreational boating safety. All meetings will be open to the public.

DATES: NBSAC will meet on Monday, October 23, 2000, from 8:30 a.m. to 5 p.m. and Tuesday, October 24 from 8:30 a.m. to noon. The Prevention Through People Subcommittee will meet on Saturday, October 21, 2000, from 1:30 p.m. to 4:00 p.m. The Boat Occupant Protection Subcommittee will meet on Sunday, October 22, 2000, from 9:00 a.m. to noon; and the Navigation Light Subcommittee will meet from 1:30 p.m. to 4:00 p.m. These meetings may close early if all business is finished. Written material and requests to make oral presentations should reach the Coast Guard on or before October 13, 2000. Requests to have a copy of your material distributed to each member of the committee or subcommittees should reach the Coast Guard on or before October 6, 2000.

ADDRESSES: NBSAC will meet at the Adam's Mark Clearwater Beach Resort, 430 South Gulfview Boulevard, Clearwater Beach, Florida. The subcommittee meetings will be held at the same address. Send written material and requests to make oral presentations to Mr. Albert J. Marmo, Commandant (G-OPB-1), U.S. Coast Guard Headquarters, 2100 Second Street SW., Washington, DC 20593-0001. You may obtain a copy of this notice by calling the U.S. Coast Guard Infoline at 1-800-368-5647. This notice is available on the Internet at http://dms.dot.gov or at the Web Site for the Office of Boating Safety at URL address www.uscgboating.org/.

FOR FURTHER INFORMATION CONTACT: Albert J. Marmo, Executive Director of NBSAC, telephone 202-267-0950, fax 202-267-4285.

SUPPLEMENTARY INFORMATION: Notice of these meetings is given under the Federal Advisory Committee Act, 5 U.S.C. App. 2.

Agendas of Meetings

National Boating Safety Advisory Council (NBSAC). The agenda includes the following:

(1) Executive Director's report.

(2) Chairman's session.

(3) Prevention Through People Subcommittee report.

(4) Boat Occupant Protection Subcommittee report.

(5) Navigation Light Subcommittee report.

(6) Recreational Boating Safety Program report.

(7) National Association of State Boating Law Administrators Report.

(8) Discussion on Federal requirements to carry ground tackle on recreational vessels.

(9) Discussion on recreational boating accident reporting criteria.

(10) Report on boating safety interventions for anglers and hunters.

(11) Report on the emergency position indicating radio beacon rental program.

(12) Report on personal watercraft safety labels.

(13) Discussion on proposed changes to the personal flotation device classification system.

(14) Discussion on increasing the serviceable life of pyrotechnic visual distress signals.

(15) Discussion on life raft safety issues.

Prevention Through People Subcommittee. The agenda includes the following:

(1) Discuss personal flotation device labels.

(2) Discuss individual member Prevention Through People activities in the recreational boating community.

(3) Discuss the new Boating Under the Influence public awareness campaign concept.

(4) Discuss current regulatory projects, grants and contracts dealing with personal flotation devices.

Boat Occupant Protection Subcommittee. The agenda includes the following:

(1) Discuss current regulatory projects, grants and contracts impacting boat occupant protection.

(2) Discuss Personal Watercraft Standards Technical Panel activities.

(3) Review subcommittee charges and develop a status update.

Navigation Light Subcommittee. The agenda includes the following:

(1) Discuss issues coordinated with the Navigation Safety Advisory Council.

(2) Discuss navigation light certification rulemaking.

(3) Discuss navigation light grant projects.

Procedural

All meetings are open to the public. Please note that the meetings may close early if all business is finished. At the Chairs' discretion, members of the public may make oral presentations during the meetings. If you would like to make an oral presentation at a meeting, please notify the Executive Director no later than October 13, 2000. Written material for distribution at a meeting should reach the Coast Guard no later than October 13, 2000. If you would like a copy of your material distributed to each member of the committee or subcommittee in advance of a meeting, please submit 25 copies to the Executive Director no later than October 6, 2000.

Information on Services for Individuals With Disabilities

For information on facilities or services for individuals with disabilities or to request special assistance at the meetings, contact the Executive Director as soon as possible.

Dated: September 16, 2000.
Kenneth T. Venuto,
Rear Admiral, U.S. Coast Guard, Director of Operations Policy.

[FR Doc. 00-24290 Filed 9-20-00; 8:45 am]

BILLING CODE 4910-15-P